DEPARTMENT OF TRANSPORTATION

Surface Transportation Board

[STB Docket No. AB-1042X]

R.J. Corman Railroad Company/Tennessee Terminal, LLC—Discontinuance of Service Exemption—in Shelby County, TN

R.J. Corman Railroad Company/Tennessee Terminal, LLC (RJCK) has filed a verified notice of exemption under 49 CFR 1152 Subpart F—Exempt Abandonments and Discontinuances of Service to discontinue service over 2,084 feet of rail line owned by BNSF Railway Company (BNSF) and identified as Track A (1110) in the Airport Industrial Park tracks at Memphis, in Shelby County, TN. The line traverses United States Postal Service Zip Code 38118.¹

¹ RJCK leased this line and began operations in January 2006. See R.J. Corman Railroad Company/Tennessee Terminal, LLC—Lease and Operation Exemption—BNSF Railway Company, STB Finance Docket No. 34772 (STB served Feb. 3, 2006).

RJCK has certified that: (1) No local traffic has moved over the line for at least 2 years; (2) there is no overhead traffic to be rerouted over other lines; ^fnl;(3) no formal complaint filed by a user of rail service on the line (or by a State or local government entity acting on behalf of such user) regarding cessation of service over the line either is pending with the Surface Transportation Board or with any U.S. District Court or has been decided in favor of complainant within the 2-year period; and (4) the requirements at 49 CFR 1105.12 (newspaper publication) and 49 CFR 1152.50(d)(1) (notice to governmental agencies) have been met.²

² Because this is a discontinuance of service proceeding and not an abandonment, the proceeding is exempt from the requirements of 49 CFR 1105.7 (environmental reports), 49 CFR 1105.8 (historic reports), and 49 CFR 1105.11 (transmittal letter).

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on October 16, 2009, unless stayed pending reconsideration. Petitions to stay that do not involve environmental issues and formal expressions of intent to file an OFA for continued rail service under 49 CFR 1152.27(c)(2) ³ must be filed by September 28, 2009.⁴ Petitions to reopen must be filed by October 6, 2009, with the Surface Transportation Board, 395 E Street, SW., Washington, DC 20423-0001.

³ Each OFA must be accompanied by the filing fee, which is currently set at $1,500. See 49 CFR 1002.2(f)(25).

⁴ Because this is a discontinuance proceeding and not an abandonment, trail use/rail banking and public use conditions are not appropriate.

A copy of any petition filed with the Board should be sent to RJCK's representative: Ronald A. Lane, Fletcher & Sippel LLC, 29 N. Wacker Dr., Suite 920, Chicago, IL 60606.

If the verified notice contains false or misleading information, the exemption is void ab initio.

Board decisions and notices are available on our Web site at http://www.stb.dot.gov.

Decided: September 10, 2009.
By the Board.
Rachel D. Campbell,
Director, Office of Proceedings.
Jeffrey Herzig,
Clearance Clerk.

[FR Doc. E9-22263 Filed 9-15-09; 8:45 am]

BILLING CODE 4915-01-P